DEPARTMENT OF COMMERCE

International Trade Administration

[C-122-860]

100- to 150-Seat Large Civil Aircraft From Canada: Postponement of Preliminary Determination in the Countervailing Duty Investigation

AGENCY: Enforcement and Compliance, International Trade Administration, U.S. Department of Commerce.

DATES: Effective July 5, 2017.

FOR FURTHER INFORMATION CONTACT: Andrew Medley or Ross Belliveau, AD/CVD Operations, Office II, Enforcement and Compliance, International Trade Administration, U.S. Department of Commerce, 1401 Constitution Avenue NW., Washington, DC 20230; telephone: (202) 482-4987, or (202) 482-4952, respectively.

SUPPLEMENTARY INFORMATION:

Background

On May 17, 2017, the Department of Commerce (the Department) initiated a countervailing duty investigation on 100- to 150-Seat Large Civil Aircraft from Canada.¹ Currently, the preliminary determination is due no later than July 21, 2017.

¹ See 100- to 150-Seat Large Civil Aircraft from Canada: Initiation of Countervailing Duty Investigation, 82 FR 24292 (May 26, 2017).

Postponement of the Preliminary Determination

Section 703(b)(1) of the Tariff Act of 1930, as amended (the Act), requires the Department to issue the preliminary determination in a countervailing duty investigation within 65 days after the date on which the Department initiated the investigation. However, section 703(c)(1) of the Act permits the Department to postpone the preliminary determination until no later than 130 days after the date on which the Department initiated the investigation if: (A) The petitioner ² makes a timely request for a postponement; or (B) the Department concludes that the parties concerned are cooperating, that the investigation is extraordinarily complicated, and that additional time is necessary to make a preliminary determination. Under 19 CFR 351.205(e), the petitioner must submit a request for postponement 25 days or more before the scheduled date of the preliminary determination and must state the reasons for the request. The Department will grant the request unless it finds compelling reasons to deny the request.

² In this investigation, the petitioner is The Boeing Company.

On June 26, 2017, the petitioner submitted a timely request that we postpone the preliminary CVD determination. In its request, the petitioner cited the number of subsidy programs provided by three different government entities, and the need for the Department to have sufficient time to investigate each of the alleged subsidies thoroughly.³ In accordance with 19 CFR 351.205(e), the petitioner has stated the reasons for requesting a postponement of the preliminary determination, and the Department finds no compelling reason to deny the request. Therefore, pursuant to section 703(c)(1)(A) of the Act, we are extending the due date for the preliminary determination to no later than 130 days after the date on which this investigation was initiated, i.e., to September 25, 2017.⁴ Pursuant to section 705(a)(1) of the Act and 19 CFR 351.210(b)(1), the deadline for the final determination will continue to be 75 days after the date of the preliminary determination.

³ See Letter from the petitioner, “100- to 150-Seat Large Civil Aircraft from Canada: Request to Postpone Preliminary Determination,” (June 26, 2017).

⁴ The actual deadline is September 24, 2017, which is a Sunday. The Department's practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(l).

Dated: June 27, 2017.
Ronald K. Lorentzen,
Acting Assistant Secretary for Enforcement and Compliance.

[FR Doc. 2017-14057 Filed 7-3-17; 8:45 am]

BILLING CODE 3510-DS-P